DEPARTMENT OF DEFENSE

Office of the Secretary

Defense Finance and Accounting Service Board of Advisors

AGENCY: Department of Defense, Office of the Under Secretary of Defense (Comptroller).

ACTION: Notice.

SUMMARY: On Wednesday, May 28, 2003 (68 FR 31691), the Department of Defense published a notice of meeting of the Defense Finance and Accounting Service (DFAS) Board of Advisors scheduled for Thursday, June 19, 2003. The meeting has been postponed and will be rescheduled and announced at a later date.

FOR FURTHER INFORMATION CONTACT: Contact Beverly A. Lemon, Corporate Planning, DFAS, Crystal Mall 3 (room 206), 1931 Jefferson Davis Highway, Arlington, VA 22240. Telephone: (703) 607-3829.

Dated: June 12, 2003.
Patricia L. Toppings,
Alternate OSD Federal Register Liaison Officer, Department of Defense.

[FR Doc. 03-15413 Filed 6-18-03; 8:45 am]

BILLING CODE 5001-08-M